CORPORATION FOR NATIONAL AND COMMUNITY SERVICE

Information Collection; Submission for OMB Review, Comment Request

AGENCY: Corporation for National and Community Service.

ACTION: Notice.

SUMMARY: The Corporation for National and Community Service (CNCS) has submitted a public information collection request (ICR) entitled AmeriCorps State and National Grantee Progress Report for review and approval in accordance with the Paperwork Reduction Act of 1995, Public Law 104-13, (44 U.S.C. Chapter 35). Copies of this ICR, with applicable supporting documentation, may be obtained by calling CNCS, Carla Ganiel, at (202) 606-6773 or email to cganiel@cns.gov. Individuals who use a telecommunications device for the deaf (TTY-TDD) may call 1-800-833-3722 between 8:00 a.m. and 8:00 p.m. Eastern Time, Monday through Friday.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: (202) 395-6974, Attention: Ms. Sharon Mar, OMB Desk Officer for the Corporation for National and Community Service; or

(2) By email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on July 22, 2013. This comment period ended September 20, 2013. Seven entities provided comments. Individual comments and the disposition of each are addressed below.

Three commenters asked which grantees and subgrantees complete which version of the GPR and whether separate sets of instructions are needed for state commissions. Commission subgrantees and national grantees that were new or recompete applicants during the 2013 competition are subject to the new GPR instructions. All other subgrantees and national grantees are subject to the old instructions as revised in this clearance. Commissions that have both types of subgrantees on the same prime grant will complete two separate progress reports, one for each type of grantee. Starting with the 2014 grant year, all subgrantees and national grantees will use the new instructions.

The following chart illustrates which 2013 grantees and subgrantees are subject to which set of GPR instructions:

Type of grantee | Type of applicant in 2013 | Old GPR instructions | New GPR instructions | Notes
National | New or recompete |  | X |
| Continuation | X |  |
State Subgrantee | New or recompete |  | X | Commission completes one prime GPR for this set of subgrantees.
| Continuation | X |  | Commission completes one prime GPR for this set of subgrantees.

CNCS will continue to use one set of instructions for all grantees. The reporting screens are nearly identical for state commissions and national grantees, more so than in the previous iteration of the GPR, which had a single set of instructions.

Five commenters stated that the burden of the new GPR is higher than the old GPR and that the burden is higher for state commissions than it is for national grantees. While the change in the way MSYs are reported will increase burden, we believe that this is balanced by the reduction in the number of demographic indicators and, for state commissions, a decrease in burden associated with providing explanations regarding formula subgrantees, which is no longer required. Also, automated completion checks will not allow incomplete progress reports to be submitted which will result in less back and forth between CNCS and grantees. Lastly, CNCS has decided to collect MSY data at the strategic plan level only, not at the performance measure level, to minimize burden.

CNCS acknowledges that the level of burden is higher for some commissions with a large number of subgrantees or multiple prime grants than for other commissions and national grantees. Based on comments and the inclusion of the final GPR due at grant closeout, CNCS has increased the burden estimate.

Four commenters focused on the timeline and testing of the new GPR. CNCS cannot delay the new GPR. Very little new information is required to complete this report. Although the demographic indicators have been revised, all new indicators are optional. No changes have been made to mandatory demographic indicators or to the information collected in the performance measures section of the GPR. The narrative questions require synthesis of information about program activity that is readily available through routine monitoring and technical assistance that is already being conducted. The due date of the end-of-year GPR will not change. Three rounds of user acceptance testing were completed by AmeriCorps program staff in June and July 2013.

Three commenters focused on changes in the demographics tab concerning what is being collected and the utility of some indicators. The demographic indicators have been revised so that they are consistent with the CNCS strategic plan and the Serve America Act.

Three commenters focused on the Member Service Year (MSY) tab and the burden associated with reporting MSYs and member activity. Reporting MSYs and member activity at the level of strategic plan objective, rather than focus area, is critical for CNCS to understand the value of its investment relative to its strategic plan. Member counts at the strategic objective level allow CNCS to state how many members are performing activities under each strategic plan objective. CNCS has chosen not to collect MSY and member activity data at the performance measurement level, thereby reducing burden.

Six commenters focused on CNCS's expectation that programs aim to achieve 100% retention, reliance on data from the portal, and the mechanisms for providing comments on this data. The data in the performance indicator tab (enrollment, retention, 30-day enrollment and 30-day exit data) will refresh for each reporting period. In response to comments, CNCS will only require this tab for the end-of-year GPR due in October 2014 and each year thereafter, and the instructions have been updated to reflect this change. CNCS will request an IT enhancement to add a warning to the performance indicators tab that the data cannot be refreshed once it has been populated. CNCS recognizes that retention rates may vary among effective programs depending on the program model. CNCS will continue to request explanations for any retention rate below 100%. Text boxes are provided for grantees to comment on data from the portal that requires explanation.

Three commenters focused on requiring explanations for incomplete data (performance indicators and performance measures) in the mid-year GPR. CNCS will not include the performance indicators tab in the mid-year GPR. We have updated the instructions for the mid-year GPR with instructions to enter “NA” in the outcome explanation fields as it is a system requirement that some text be entered in these fields.

Two commenters focused on changes in the performance measurement data collected. The performance measure section of the new GPR requires no data that was not collected in the old GPR.

One commenter suggested that CNCS should collect performance measurement data as percentages rather than numerical values. Whole numbers are required so that data can be aggregated across programs.

Five commenters stated that instructions for narrative questions are not clear to state commissions. We have added additional information in the instructions to clarify how state commissions should address the narrative questions.

Description: CNCS is seeking approval of AmeriCorps State and National Grantee Progress Report, which is used by grantees to provide information for CNCS staff to monitor grantee progress and to respond to requests from Congress and other stakeholders.

Type of Review: Renewal.

Agency: Corporation for National and Community Service.

Title: AmeriCorps State and National Grantee Progress Report.

OMB Number: 3045-0101.

Agency Number: None.

Affected Public: AmeriCorps State and National Grantees.

Total Respondents: 154.

Frequency: Biannual with one final report required at grant closeout.

Average Time per Response: 9 hours per submission.

Estimated Total Burden Hours: 3,234.

Total Burden Cost (capital/startup): None.

Total Burden Cost (operating/maintenance): None.

Dated: October 25, 2013.
William Basl,
Director, AmeriCorps State and National.

[FR Doc. 2013-25825 Filed 10-30-13; 8:45 am]

BILLING CODE 6050-28-P